DEPARTMENT OF VETERANS AFFAIRS

Discontinuance of Annual Financial Assessments—Delay in Implementation

AGENCY: Department of Veterans Affairs.

ACTION: Notice.

SUMMARY: The Department of Veterans Affairs (VA) published a Notice in the Federal Register on October 25, 2013 (78 FR 64065) announcing that we intended to change financial reporting practices requiring annual financial assessments from veterans enrolled in the VA health care system. The purpose of this Notice is to notify interested parties that due to delays in modifying computer software, VA is postponing implementation of this change.

FOR FURTHER INFORMATION CONTACT: Kristin J. Cunningham, Director Business Policy, Chief Business Office, Department of Veterans Affairs, 810 Vermont Avenue NW., Washington, DC 20420; (202) 382-2508. (This is not a toll-free number.)

SUPPLEMENTARY INFORMATION: Certain veterans are enrolled in the VA health care system based on their income: Priority Groups 5, 7, and 8. VA requires these veterans to submit a financial assessment when initially enrolled and then requests resubmission of this information each year thereafter on the enrollment anniversary. VA verifies that self-reported financial information through a computer matching of income reported to the Internal Revenue Service (IRS) and Social Security Administration (SSA).

VA intends to eliminate this annual burden by changing the financial reporting practices. Veterans will be requested to submit financial assessment information using a VA Form 10-10EZ only during the initial enrollment process. VA will continue to receive income information from IRS and SSA, which will then be compared to the information initially provided by the veteran. A veteran will be asked to provide further income and asset information, or to verify the data provided by IRS or SSA, only in those cases where VA identifies a change to the veteran's income that would result in a change to the veteran's priority group status.

As stated in VA's October 25, 2013, Notice, this change in policy will be implemented in phases because the policy change requires revision of current VA forms and processes including updating existing information technology. Phase I, which will eliminate the need for current enrollees to submit the annual financial assessment, was scheduled to be implemented by December 31, 2013. Due to delays in revising and updating supporting computer software, VA is postponing implementation of Phase I until a date to be determined. VA will publish a Notice in the Federal Register to announce the new implementation date.

Dated: December 24, 2013.
William F. Russo,
Deputy Director, Regulation Policy and Management, Office the General Counsel, Department of Veterans Affairs.

[FR Doc. 2013-31164 Filed 12-27-13; 8:45 am]

BILLING CODE 8320-01-P